DEPARTMENT OF HEALTH AND HUMAN SERVICES

Office of the Secretary

Promoting the Rule of Law Through Improved Agency Guidance Documents

AGENCY: Office of the Secretary, Department of Health and Human Services.

ACTION: Notice.

SUMMARY: On October 9, 2019, the President issued Executive Order (E.O.) 13891: Promoting the Rule of Law Through Improved Agency Guidance Documents. This E.O. requires all Federal agencies to establish an on-line guidance portal and to rescind any guidance documents that are no longer active or valid.

FOR FURTHER INFORMATION CONTACT: Samuel Shipley, Executive Secretariat, at Guidance@hhs.gov or (202) 690-5627.

SUPPLEMENTARY INFORMATION: The Office of Management and Budget (OMB) granted the Department of Health and Human Services (HHS) an extension on February 27, 2020, allowing HHS until August 31, 2020, to establish its guidance portal. This extension request can be found at: https://www.hhs.gov/sites/default/files/eo-13891-extension-request-2-27-20r.pdf.

Consistent with the E.O. and subsequent extension, this document advises the public that HHS has comprehensively reviewed its guidance documents, determined which have continued effect, and is making them available on https://www.hhs.gov/guidance.

This guidance portal includes all active guidance documents from across the HHS's 27 Operating and Staff Divisions. Please note: While many of the Centers for Medicare & Medicaid Services' (CMS) active guidance documents are included here, this does not reflect CMS's full inventory. OMB granted CMS an extension until July 31, 2020, to fully populate the database.

Dated: June 29, 2020.
Wilma M. Robinson,
Deputy Executive Secretary, Department of Health and Human Services.

[FR Doc. 2020-14433 Filed 7-1-20; 8:45 am]

BILLING CODE 4150-03-P